DEPARTMENT OF AGRICULTURE

Foreign Agricultural Service

Adjustment of Appendices Under the Dairy Tariff-Rate Quota Import Licensing Regulation for the 2019 Tariff-Rate Quota Year

AGENCY: Foreign Agricultural Service, USDA.

ACTION: Notice.

SUMMARY: This notice announces the transfer of amounts for certain dairy articles from the historical license category (Appendix 1) to the lottery (nonhistorical) license category (Appendix 2) pursuant to the Dairy Tariff-Rate Quota Import Licensing regulations, 7 CFR part 6, for the 2019 quota year.

DATES: August 8, 2019.

FOR FURTHER INFORMATION CONTACT: Abdelsalam El-Farra, (202) 720-9439; abdelsalam.el-farra@fas.usda.gov.

SUPPLEMENTARY INFORMATION: The Foreign Agricultural Service, under a delegation of authority from the Under Secretary for Trade and Foreign Agricultural Affairs, administers the Dairy Tariff-Rate Import Quota Licensing Regulation codified at 7 CFR 6.20-6.36 that provides for the issuance of licenses to import certain dairy articles under tariff-rate quotas (TRQs) as set forth in the Harmonized Tariff Schedule (HTS) of the United States. These dairy articles may only be entered into the United States at the low-tier tariff by or for the account of a person or firm to whom such licenses have been issued and only in accordance with the terms and conditions of the regulation.

Licenses are issued on a calendar year basis, and each license authorizes the license holder to import a specified quantity and type of dairy article from a specified country of origin. The Import Policies and Export Reporting Division, Foreign Agricultural Service, U.S. Department of Agriculture, issues these licenses and, in conjunction with U.S. Customs and Border Protection, U.S. Department of Homeland Security, monitors their use.

The regulation at 7 CFR 6.34(a) states that whenever a historical license is permanently surrendered, revoked by the Licensing Authority, or not issued to an applicant pursuant to the provisions of 6.23, then the amount of such license will be transferred to Appendix 2. Section 6.34(b) provides that the cumulative annual transfers will be published by notice in the Federal Register. Accordingly, this document sets forth the revised Appendices for the 2019 tariff-rate quota year in the table below. Although there are no changes to the quantities for designated licenses (Appendix 3 and Appendix 4) nor to the total amount for each article, those numbers are also included in the table below for completeness.

Pursuant to the Congressional Review Act (5 U.S.C. 801 et seq.), the Office of Information and Regulatory Affairs designated this rule as not a major rule, as defined by 5 U.S.C. 804(2).

Dated: August 2, 2019.
Ronald Lord,
Licensing Authority.

Articles Subject to Dairy Import Licenses for Calendar Year 2019
[Kilograms] ¹
| Historical licenses (Appendix 1) ² | Lottery licenses (Appendix 2) ³ | Sum of Appendix 1 & 2 ⁴ | Designated licenses (Tokyo Round, Appendix 3) ⁴ | Designated licenses (Uruguay Round, Appendix 4) ⁴ | Total ⁴
Non-cheese articles, notes 6, 7, 8, 12, 14 (appendix 1 reduction)
Butter (Note 6, Commodity Code G) (−1,773 kg) | 4,301,461 | 2,675,539 | 6,977,000 |  |  | 6,977,000
EU-27 | 62,599 | 33,562 | 96,161 |  |  |
New Zealand | 76,503 | 74,090 | 150,593 |  |  |
Other Countries (−1,773 kg) | 35,382 | 38,553 | 73,935 |  |  |
Any Country | 4,126,977 | 2,529,334 | 6,656,311 |  |  |
Dried Skim Milk (Note 7, Commodity Code K) | 0 | 5,261,000 | 5,261,000 |  |  | 5,261,000
Australia | 0 | 600,076 | 600,076 |  |  |
Canada | 0 | 219,565 | 219,565 |  |  |
Any Country | 0 | 4,441,359 | 4,441,359 |  |  |
Dried Whole Milk (Note 8, Commodity Code H) | 0 | 3,321,300 | 3,321,300 |  |  | 3,321,300
New Zealand | 0 | 3,175 | 3,175 |  |  |
Any Country | 0 | 3,318,125 | 3,318,125 |  |  |
Dried Buttermilk/Whey (Note 12, Commodity Code M) | 0 | 224,981 | 224,981 |  |  | 224,981
Canada | 0 | 161,161 | 161,161 |  |  |
New Zealand | 0 | 63,820 | 63,820 |  |  |
Butter Substitutes Containing Over 45 Percent of Butterfat and/or Butter Oil (Note 14, Commodity Code SU) | 0 | 6,080,500 | 6,080,500 |  |  | 6,080,500
Any Country | 0 | 6,080,500 | 6,080,500 |  |  |
Total: Non-Cheese Articles (−1,773 kg) | 4,301,461 | 17,563,320 | 21,864,781 |  |  | 21,864,781
Cheese Articles (Notes 16, 17, 18, 19, 20, 21, 22, 23, 25):
Cheese and Substitutes for Cheese (Note 16, Commodity Code OT) (−2,142 kg) | 17,613,583 | 13,856,148 | 31,469,731 | 9,661,128 | 7,496,000 | 48,626,859
Argentina | 0 | 7,690 | 7,690 | 92,310 |  | 100,000
Australia | 535,628 | 5,542 | 541,170 | 758,830 | 1,750,000 | 3,050,000
Canada | 950,162 | 190,838 | 1,141,000 |  |  | 1,141,000
Costa Rica | 0 | 0 | 0 |  | 1,550,000 | 1,550,000
EU-27 (−2,142 kg) | 13,932,093 | 9,335,563 | 23,267,656 | 1,132,568 | 3,446,000 | 27,846,224
Of which Portugal is: | 65,838 | 63,471 | 129,309 | 223,691 |  | 353,000
EU-27 not including Portugal (−2,142 kg) | 13,866,255 | 9,272,092 | 23,138,347 | 908,877 | 3,466,000 | 27,493,224
Israel | 79,696 | 0 | 79,696 | 593,304 |  | 673,000
Iceland | 29,054 | 264,946 | 294,000 | 29,000 |  | 323,000
New Zealand | 1,351,000 | 3,464,472 | 4,815,472 | 6,506,528 |  | 11,322,000
Norway | 122,860 | 27,140 | 150,000 |  |  | 150,000
Switzerland | 512,184 | 159,228 | 671,412 | 548,588 | 500,000 | 1,720,000
Uruguay | 0 | 0 | 0 |  | 250,000 | 250,000
Other Countries | 100,906 | 100,729 | 201,635 |  |  | 201,635
Any Country | 0 | 300,000 | 300,000 |  |  | 300,000
Blue-Mold Cheese (Note 17, Commodity Code B) | 1,933,126 | 547,875 | 2,481,001 |  | 430,000 | 2,911,001
Argentina | 2,000 | 0 | 2,000 |  |  | 2,000
EU-27 | 1,931,126 | 547,874 | 2,479,000 |  | 350,000 | 2,829,000
Chile | 0 | 0 | 0 |  | 80,000 | 80,000
Other Countries | 0 | 1 | 1 |  |  | 1
Cheddar Cheese (Note 18, Commodity Code C)(−4,676 kg) | 2,300,995 | 1,982,861 | 4,283,856 | 519,033 | 7,620,000 | 12,422,889
Australia (−4,676 kg) | 886,570 | 97,929 | 984,499 | 215,501 | 1,250,000 | 2,450,000
Chile | 0 | 0 | 0 |  | 220,000 | 220,000
EU-27 | 52,404 | 210,596 | 263,000 |  | 1,050,000 | 1,313,000
New Zealand | 1,265,070 | 1,531,398 | 2,796,468 | 303,532 | 5,100,000 | 8,200,000
Other Countries | 96,951 | 42,938 | 139,889 |  |  | 139,889
Any Country | 0 | 100,000 | 100,000 |  |  | 100,000
American-Type Cheese (Note 19, Commodity Code A) (−17,442 kg) | 1,165,127 | 2,000,426 | 3,165,553 | 357,003 | 0 | 3,522,556
Australia (−3,689 kg) | 758,201 | 122,797 | 880,998 | 119,002 |  | 1,000,000
EU-27 | 136,075 | 217,925 | 354,000 |  |  | 354,000
New Zealand (−9,070 kg) | 167,795 | 1,594,204 | 1,761,999 | 238,001 |  | 2,000,000
Other Countries (−4,683 kg) | 103,056 | 65,500 | 168,556 |  |  | 168,556
Edam and Gouda Cheese (Note 20, Commodity Code E) | 4,286,917 | 1,319,485 | 5,606,402 | 0 | 1,210,000 | 6,816,402
Argentina | 105,418 | 19,582 | 125,000 |  | 110,000 | 235,000
EU-27 | 4,065,691 | 1,223,309 | 5,289,000 |  | 1,100,000 | 6,389,000
Norway | 111,046 | 55,954 | 167,000 |  |  | 167,000
Other Countries | 4,762 | 20,640 | 25,402 |  |  | 25,402
Italian-Type Cheeses (Note 21, Commodity Code D)(−2,288 kg) | 6,104,896 | 1,415,651 | 7,520,547 | 795,517 | 5,165,000 | 13,481,064
Argentina | 3,692,345 | 433,138 | 4,125,483 | 367,517 | 1,890,000 | 6,383,000
EU-27 (−2,288 kg) | 2,412,551 | 969,449 | 3,382,000 |  | 2,025,000 | 5,407,000
Romania | 0 | 0 | 0 |  | 500,000 | 500,000
Uruguay | 0 | 0 | 0 | 428,000 | 750,000 | 1,178,000
Other Countries | 0 | 13,064 | 13,064 |  |  | 13,064
Swiss or Emmenthaler Cheese (Note 22, Commodity Code GR) | 4,238,006 | 2,413,308 | 6,651,314 | 823,519 | 380,000 | 7,854,833
EU-27 | 2,983,722 | 2,168,272 | 5,151,994 | 393,006 | 380,000 | 5,925,000
Switzerland | 1,220,786 | 198,701 | 1,419,487 | 430,513 |  | 1,850,000
Other Countries | 33,498 | 46,335 | 79,833 |  |  | 79,833
Lowfat Cheese (Note 23, Commodity Code LF) | 1,173,766 | 3,251,142 | 4,424,908 | 1,050,000 | 0 | 5,474,908
EU-27 | 1,173,766 | 3,251,141 | 4,424,907 |  |  | 4,424,907
Israel | 0 | 0 | 0 | 50,000 |  | 50,000
New Zealand | 0 | 0 | 0 | 1,000,000 |  | 1,000,000
Other Countries | 0 | 1 | 1 |  |  | 1
Swiss or Emmenthaler Cheese With Eye Formation (Note 25, SW) (−13,091 kg) | 13,091,848 | 9,205,483 | 22,297,331 | 9,557,945 | 2,620,000 | 34,475,276
Argentina | 0 | 9,115 | 9,115 | 70,885 |  | 80,000
Australia | 209,698 | 0 | 209,698 | 290,302 |  | 500,000
Canada | 0 | 0 | 0 | 70,000 |  | 70,000
EU-27 (−13,091 kg) | 9,762,199 | 6,714,629 | 16,476,828 | 4,003,172 | 2,420,000 | 22,900,000
Iceland | 0 | 149,999 | 149,999 | 150,001 |  | 300,000
Israel | 27,000 | 0 | 27,000 |  |  | 27,000
Norway | 2,285,329 | 1,369,981 | 3,655,310 | 3,227,690 |  | 6,883,000
Switzerland | 759,369 | 924,736 | 1,684,105 | 1,745,895 | 200,000 | 3,630,000
Other Countries | 48,253 | 37,023 | 85,276 |  |  | 85,276
Total: Cheese Articles (−39,639 kg) | 51,908,264 | 35,992,379 | 87,900,643 | 22,764,145 | 24,921,000 | 135,585,788
Total: Cheese & Non-Cheese (−41,412 kg) | 56,209,725 | 53,555,699 | 109,765,424 | 22,764,145 | 24,921,000 | 157,450,569
¹ Source of the total TRQs is the U.S. Harmonized Tariff Schedule, Chapter 4, in the corresponding Additional U.S. Notes.
² Reduced from 2018 by total of 107,200 KG.
³ Increased from 2018 by total of 107,200 KG.
⁴ No change.

[FR Doc. 2019-16933 Filed 8-7-19; 8:45 am]

BILLING CODE 3410-10-P